DEPARTMENT OF HEALTH AND HUMAN SERVICES

Administration for Community Living

Notice of the Intent to Award a Single-Source Grant to the National Association of States United for Aging and Disabilities

AGENCY: Administration for Community Living, HHS.

ACTION: Notice.

SUMMARY: The Administration for Community Living (ACL) announces the intent to award a single-source grant award in the amount of $285,000 to the National Association of State United for Aging and Disabilities (NASUAD). This award is to support and stimulate the expansion of work already under way by NASUAD to further develop and assist states to implement a valid and reliable National Core Indicator Survey for older adults and people with physical disabilities (NCI-AD).

Program Name: National Core Indicator Survey.

Award Amount: $285,000.

DATES: The award will be issued for a project period of September 30, 2015 through September 29, 2016.

Award Type: Single Source Award.

Statutory Authority: The Statutory authority contained in Title II of the Older Americans Act (OAA) (42 U.S.C. 3017), as amended by the Older Americans Act Amendments of 2006, Public Law 109-365 (Catalog of Federal Domestic Assistance 93.048, Title II Evaluation), as well as Title I, Subtitle E of the Developmental Disabilities Assistance and Bill of Rights Act of 2000 (42 U.S.C. 15081), Public Law 106-402 (Catalog of Federal Domestic Assistance 93.631, Developmental Disabilities Projects of National Significance), and Title II of the Rehabilitation Act of 1973, as amended (Pub. L. 113-128).

CFDA Numbers: 93.048, 93.631, and 93.433

FOR FURTHER INFORMATION CONTACT: Shawn Terrell, Office of Policy and Evaluation, Administration for Community Living, 1 Massachusetts Avenue NW., Washington, DC 20001. Telephone: 202-357-3517; Email: Shawn.Terrell@acl.hhs.gov.

SUPPLEMENTARY INFORMATION: In 2009, NASUAD began a partnership with National Association of State Directors of Developmental Disabilities Services (NASDDDS) and Human Services Research Institute (HSRI) to expand the National Core Indicators Survey to include older adults and people with physical disabilities. As a result of the NASUAD/NASDDDS/HSRI partnership, the expanded tool, NCI-AD, has been piloted in 3 states. Fourteen states are currently slated to begin using the tool in the summer of 2015. NASUAD is the lead partner for the NCI-AD project. This one-year of grant funding, through a continuation grant, will support NASUAD in their efforts to develop and perform comprehensive and rigorous validity/reliability testing; provide support for NCI-AD regional meetings (in conjunction with ACL regional meetings); engage in additional technical assistance including bi-monthly TA calls, continuous quality improvement activities, stakeholder engagement, survey customization, in-person interviewer training, in-person meeting with state staff, refresher webinars, and monthly update calls; recruit states to participate in the project; enhance person centered planning measures in the tool; sampling methodologies, outcome reports by state, quality improvement activities by state, and others.

This program is authorized under the Older Americans Act of 1965, as amended in 2006, Public Law 109-365 as well as Title II of the Rehabilitation Act of 1973, as amended (Pub. L. 113-128), and Title I, Subtitle E of the Developmental Disabilities Assistance and Bill of Rights Act of 2000, Public Law 106-402 (Developmental Disabilities Projects of National Significance).

Dated: August 12, 2015.
Aaron Bishop,
Commissioner Administration for Intellectual and Developmental Disabilities, Administration Community Living.

[FR Doc. 2015-20392 Filed 8-20-15; 8:45 am]

BILLING CODE 4154-01-P